Title 3—

The President

Proclamation 8208 of November 30, 2007

National Drunk and Drugged Driving Prevention Month, 2007

By the President of the United States of America

A Proclamation

Accidents related to drunk and drugged driving claim the lives of thousands of Americans every year. During National Drunk and Drugged Driving Prevention Month we seek to raise awareness about the dangers of driving under the influence of alcohol or drugs and encourage citizens to drive responsibly.

As a Nation, we must work together to prevent drunk and drugged driving on our roads. We can all play an important role by educating family members and friends about the devastating consequences of impaired driving and by insisting that they have a designated driver. Businesses, community organizations, and faith-based groups can promote substance abuse prevention and encourage alternative sources of transportation. By encouraging our fellow citizens to make responsible choices, we can help save lives.

My Administration is dedicated to strengthening efforts against drunk and drugged driving. We have partnered with communities across America to increase public awareness about this serious crime and prevent impaired drivers from putting themselves and others at risk. Through high-visibility enforcement operations, the Department of Transportation's National Highway Traffic Safety Administration is helping discourage individuals from drinking and driving. To take drug-impaired drivers off the streets, the Office of National Drug Control Policy is working to give law enforcement officers the tools they need to detect when citizens are driving under the influence of drugs.

During National Drunk and Drugged Driving Prevention Month and throughout the year, we are reminded of the importance of driving free from the influence of alcohol and drugs. By working together, we can make our Nation's roadways safer for everyone.

NOW, THEREFORE, I, GEORGE W. BUSH, President of the United States of America, by virtue of the authority vested in me by the Constitution and laws of the United States, do hereby proclaim December 2007 as National Drunk and Drugged Driving Prevention Month. I urge all Americans to make responsible decisions and take appropriate measures to prevent drunk and drugged driving.

IN WITNESS WHEREOF, I have hereunto set my hand this thirtieth day of November, in the year of our Lord two thousand seven, and of the Independence of the United States of America the two hundred and thirty-second.

[FR Doc. 07-5951

Filed 12-3-07; 11:08 am]

Billing code 3195-01-P